DEPARTMENT OF ENERGY

Federal Energy Regulatory Commission

[Docket No. CP11-67-001]

Texas Eastern Transmission, LP; Notice of Amendment

Take notice that on June 13, 2011, Texas Eastern Transmission, LP (Texas Eastern), 5400 Westheimer Court, Houston, Texas 77056, filed in the above referenced docket an amendment to its application filed under CP11-67-000 for its proposed TEAM 2012 Project. Specifically, Texas Eastern's original application is amended to reduce the Holbrook East New Loop by approximately 1.47 miles. Texas Eastern proposes no additional facilities changes with this amendment. Texas Eastern estimates its amended TEAM 2012 project to cost $196,998,000, all as more fully set forth in the application. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding this Application should be directed to Berk Donaldson, Director, Rates and Certificates, Texas Eastern Transmission, LP, P.O. Box 1642, Houston, Texas 77251-1642, by phone: (713) 627-4488 or by fax: (713) 627-5947.

Pursuant to section 157.9 of the Commission's rules, a Notice of Schedule for the Environmental Review of the TEAM 2012 Project was issued on May 5, 2011. Based on Texas Eastern's filing of an amendment to its application, the Commission staff is no longer able to issue its environmental assessment (EA) on July 14, 2011 as identified in the May 5, 2011 Notice of Schedule. The Commission staff will issue a Revised Notice of Schedule for Environmental Review within 90 days of this Notice. The Revised Notice of Schedule will identify the anticipated issuance date of the Commission staff's EA and will serve to notify agencies issuing Federal authorizations of the requirement to complete all necessary reviews and to reach a final decision on a request for a Federal authorization within 90 days of the issuance of the EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426.

Comment Date: July 15, 2011.

Dated: June 24, 2011.
Kimberly D. Bose,
Secretary.

[FR Doc. 2011-16470 Filed 6-29-11; 8:45 am]

BILLING CODE 6717-01-P